DEPARTMENT OF AGRICULTURE

Forest Service

Shasta County Resource Advisory Committee

AGENCY: Forest Service, USDA.

ACTION: Notice of meeting.

SUMMARY: The Shasta County Resource Advisory Committee (RAC) will meet at the USDA Service Center in Redding, California, on March 12, 2009 from 8:30 a.m. to 12 noon; April 9, 2009 from 8:30 a.m. to 12 noon; May 27 and 28, 2009 from 8:30 a.m. to 4:30 p.m. The purpose of these meetings is to discuss proposed projects under Title II of the Secure Rural Schools and Community Self-Determination Act of 2008.

DATES: Thursday, March 12, 2009; Thursday, April 9, 2009; Wednesday and Thursday, May 27 and 28, 2009.

ADDRESSES: The meeting will be held at the USDA Service Center, 3644 Avtech Parkway, Redding, California 96002.

FOR FURTHER INFORMATION CONTACT: Resource Advisory Committee Coordinator John Heibel at (530) 226-2524 or jheibel@fs.fed.us.

SUPPLEMENTARY INFORMATION: The meeting is open to the public. Public input sessions will be provided and individuals will have the opportunity to address the Shasta County Resource Advisory Committee.

Dated: February 17, 2009.
J. Sharon Heywood,
Forest Supervisor, Shasta-Trinity National Forest.

[FR Doc. E9-4117 Filed 2-26-09; 8:45 am]

BILLING CODE 3410-11-M